DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: StormReady and TsunamiReady/StormReady Application Forms.

Form Number(s): None.

OMB Approval Number: 0648-0419.

Type of Request: Regular submission.

Burden Hours: 200.

Number of Respondents: 100.

Average Hours per Response: 2.

Needs and Uses: StormReady and TsunamiReady are voluntary programs offered to provide guidance and incentive to officials who wish to improve their respective hazardous weather operations. Officials will use the applications to apply for initial StormReady or TsunamiReady/StormReady recognition and renewal of that recognition every three years.

A typical StormReady/TsunamiReady community would use this form 1 time every 10 years. The government will use application forms to determine whether a community has met all of the guidelines to receive StormReady and/or TsunamiReady recognition.

Affected Public: State, local or tribal government.

Frequency: Every six years.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 5, 2006.
Gwellnar Banks,
Management Analyst, Office of the Chief Information Officer.

[FR Doc. E6-7073 Filed 5-9-06; 8:45 am]

BILLING CODE 3510-22-P